COMMODITY FUTURES TRADING COMMISSION

Sunshine Act Meeting

Time and Date: 10 a.m., Friday, March 7, 2008.

Place: 1155 21st St., NW., Washington, DC, 9th Floor Commission Conference Room.

Status: Closed.

Matters to be Considered: Clearing and Intermediary Oversight Matters.

Contact Person For More Information: Sauntia S. Warfield, 202-418-5084.

David A. Stawick,
Secretary of the Commission.

[FR Doc. 08-897 Filed 2-26-08; 1:06 pm]

BILLING CODE 6351-01-P